DEPARTMENT OF AGRICULTURE

Rural Utilities Service

Basin Electric Power Cooperative; Notice of Finding of No Significant Impact

AGENCY: Rural Utilities Service, USDA.

ACTION: Notice of finding of no significant impact.

SUMMARY: Notice is hereby given that the Rural Utilities Service (RUS) has made a finding of no significant impact in connection with a request from Basin Electric Power Cooperative (Basin Electric) of Bismarck, North Dakota for assistance from RUS to finance the construction of an asynchronous tie that would connect the eastern and western transmission grids near Rapid City in Pennington County, South Dakota.

FOR FUTHER INFORMATION CONTACT: Nurul Islam, Environmental Protection Specialist, Rural Utilities Service, Engineering and Environmental Staff, Stop 1571, 1400 Independence Avenue, SW, Washington, DC 20250-1571, telephone (202) 720-1414, Fax (202) 720-0820, e-mail nislam@rus.usda.gov. Information is also available from Mr. James A. Berg, Water Quality/Waste Management Coordinator, Basin Electric, 1717 East Interstate Avenue, Bismarck, North Dakota 58501, telephone (701) 223-0441, Fax (701) 224-5336, e-mail address jberg@bepc.com.

SUPPLEMENTARY INFORMATION: Basin Electric is proposing construction of an asynchronous tie that would connect the eastern and western transmission grids near Rapid City in Pennington County, South Dakota. This project is known as the Rapid City Tie project. The Rapid City Tie Project will include approximately 23 miles of 230 kV transmission line, a line terminal bay at the South Rapid City Substation, a line terminal bay at the New Underwood Substation, and an asynchronous tie converter station. The project is located just south of Rapid City and the transmission line extends eastward for approximately 23 miles. The Rapid City Tie Project is anticipated encompassing approximately 325 acres of land including 285 acres for the transmission line (a 100-foot right-of-way is assumed) and 40 acres for the converter station. The project is required to meet the growing needs for power of Basin Electric's membership in South Dakota and in northeastern Wyoming. RUS may provide financial assistance to Basin Electric for this project.

RUS has concluded that the impacts of the proposed project would not be significant and the proposed action is not a major federal action significantly affecting the quality of the human environment. Therefore, the preparation of an environmental impact statement is not necessary. RUS, in accordance with its environmental policies and procedures, required that Basin Electric prepare an environmental report (ER/Environmental Analysis) reflecting the potential impacts of the proposed facilities. The Environmental Analysis, which includes input from Federal, state, and local agencies, has been reviewed and accepted as RUS” Environmental Assessment (EA) for the project in accordance with 7 CFR 1794.41. Basin Electric published notices of the availability of the EA and solicited public comments per 7 CFR 1794.42. The 30-day comment period on the EA for the proposed project ended May 6, 2002. Comments were received on the EA from the following agencies: South Dakota Department of Transportation (SDDOT); South Dakota Department of Fish, Game and Parks (SDDFG&P); Natural Resources Conservation Service (NRCS); United States Army Corps of Engineers (COE); United States Fish and Wildlife Service (USFWS); and Planning Department, City of Rapid City (Rapid City PD). Basin Electric has agreed to follow Federal, state, and local agency recommendations (SDDOT, SDDFG&P, COE, USFWS, NRCS, and Rapid City PD) and secure all necessary permits prior to constructing and operating the proposed project.

Based on the EA and the Basin Electric's commitments to follow all agency recommendations, RUS has concluded that the proposed action will not have a significant effect to various resources, including important farmland, floodplains, wetlands, cultural resources, threatened and endangered species and their critical habitat, air pollution and water quality, noise, electrocution of birds. RUS has also determined that there would be no negative impacts of the proposed project on minority communities and low-income communities as a result of the construction of the project. RUS believes that there are no significant unresolved environmental conflicts related to this project.

Dated: June 17, 2002.
Blaine D. Stockton,
Assistant Administrator, Electric Program, Rural Utilities Service.

[FR Doc. 02-15721 Filed 6-20-02; 8:45 am]

BILLING CODE 3410-15-P